DEPARTMENT OF THE TREASURY

President's Commission on the United States Postal Service

AGENCY: Department of the Treasury, Departmental Offices.

ACTION: Notice of meeting.

SUMMARY: Notice is given of a meeting of the President's Commission on the United States Postal Service.

DATES: The meeting will be held on Thursday, February 20, 2003 from 8:30 a.m. to approximately 4 p.m.

ADDRESSES: The meeting will be held at The Hotel Washington, 15th Street and Pennsylvania Avenue, NW., Washington, DC 20004.

FOR FURTHER INFORMATION CONTACT: Roger Kodat, Designated Federal Official, (202) 622-7073.

SUPPLEMENTARY INFORMATION: At the public meeting, the Commission will examine some of the issues that help define the United States Postal Service's business model. These issues include the Postal Service's universal service obligation, the price-regulation system, and the Postal Service's corporate governance structure. Witnesses will testify at the invitation of the Commission. Seating is limited to a maximum of 300 on a first-come, first-served basis.

Dated: January 31, 2003.
Roger Kodat,
Designated Federal Official.

[FR Doc. 03-2708 Filed 2-4-03; 8:45 am]

BILLING CODE 4811-16-P